DEPARTMENT OF THE INTERIOR

Fish and Wildlife Service

[FWS-R2-ES-2023-N098; FXES11130200000-245-FF02ENEH00]

Endangered Wildlife; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act (ESA) prohibits certain activities that may impact endangered species, unless a Federal permit allows such activity. The ESA also requires that we invite public comment before issuing these permits.

DATES: To ensure consideration, please submit your written comments by February 9, 2024.

ADDRESSES:

Document availability: Request documents from the contact in the FOR FURTHER INFORMATION CONTACT section.

Comment submission: Submit comments by email to fw2_te_permits@fws.gov. Please specify the permit application you are interested in by number (e.g., Permit Record No. PER1234567).

FOR FURTHER INFORMATION CONTACT: Marty Tuegel, Supervisor, Environmental Review Division, by phone at 505-248-6651, or via email at marty_tuegel@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act of 1973, as amended (ESA; 16 U.S.C. 1531 et seq.), prohibits activities that constitute take of listed species unless a Federal permit is issued that allows such activity. The ESA's definition of “take” includes hunting, shooting, harming, wounding, or killing, and also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Our release of documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Permit record No. | Applicant | Species | Location | Activity | Type of take | Permit action
PER2817285 | Boone, Aaron; San Antonio, Texas | Golden-cheeked warbler (Setophaga chrysoparia), lesser prairie-chicken (Tympanuchus pallidicinctus), red-cockaded woodpecker (Picoides borealis) | New Mexico, Texas | Presence/absence surveys, lek surveys | Harass, harm | Renew/Amend.
PER2182165 | Ubias, Ryan; Dallas, Texas | Golden-cheeked warbler (Setophaga chrysoparia) | Texas | Presence/absence surveys | Harass, harm | New.
PER4919195 | Veni, George; Carlsbad, New Mexico | Coffin Cave mold beetle (Batrisodes texanus), Comal Springs riffle beetle (Heterelmis comalensis), Helotes mold beetle (Batrisodes venyivi), no common name (Rhadine exilis), no common name (Rhadine infernalis), Tooth Cave ground beetle (Rhadine persephone), Comal Springs dryopid beetle (Stygoparnus comalensis), Kretschmarr Cave mold beetle (Texamaurops reddelli), Texas hornshell (Popenaias popeii), diminutive amphipod (Gammarus hyalleloides), Peck's Cave amphipod (Stygobromus (=Stygonectes) pecki), Leon Springs pupfish (Cyprinodon bovinus), Comanche Springs pupfish (Cyprinodon elegans), fountain darter (Etheostoma fonticola), Pecos gambusia (Gambusia nobilis), Cokendolpher Cave harvestman (Texella cokendolpheri), Bee Creek Cave harvestman (Texella reddelli), Bone Cave harvestman (Texella reyesi), Tooth Cave pseudoscorpion (Tartarocreagris texana), Texas blind salamander (Eurycea rathbuni), Barton Springs salamander (Eurycea sosorum), Austin blind salamander (Eurycea waterlooensis), Pecos assiminea snail (Assiminea pecos), Noel's amphipod (Gammarus desperatus), Koster's springsnail (Juturnia kosteri), diamond tryonia (Pseudotryonia adamantina), Roswell springsnail (Pyrgulopsis roswellensis), phantom springsnail (Pyrgulopsis texana), phantom tryonia (Tryonia cheatumi), Gonzales tryonia (Tryonia circumstriata (=stocktonensis)), Government Canyon Bat Cave meshweaver (Cicurina vespera), Madla Cave meshweaver (Cicurina madla), Robber Baron Cave meshweaver (Cicurina baronia), Government Canyon Bat Cave spider (Tayshaneta microps), Tooth Cave spider (Tayshaneta myopica) | New Mexico, Texas | Presence/absence surveys | Harass, harm, collect | New.
PER4843810 | Gladstone, Nicholas; Austin, Texas | Golden-cheeked warbler (Setophaga chrysoparia) | Texas | Presence/absence surveys | Harass, harm | Amend.
PER5007100 | University of Arizona. Pasch Lab; Tucson, Arizona | Mount Graham red squirrel (Tamiasciurus fremonti grahamensis) | Arizona | Capture, handle, tag, monitor, bio-sample | Harass, harm, capture | Renew/Amend.
PER3115044 | Transcon Environmental, Inc.; Mesa, Arizona | Southwestern willow flycatcher (Empidonax traillii extimus) | Arizona, California, Colorado New Mexico, Texas, Utah | Presence/absence surveys | Harass, harm | Renew/Amend.
PER4948896 | Kanye, Zakhiah; Tijeras, New Mexico | Jemez Mountains salamander (Plethodon neomexicanus) | New Mexico | Presence/absence surveys | Harass, harm | New.
PER5034327 | New Mexico Department of Game & Fish; Santa Fe, New Mexico | Lesser prairie-chicken (Tympanuchus pallidicinctus) | New Mexico | Presence/absence surveys, lek surveys | Harass, harm | Amend.
PER5161122 | Olsson; Oklahoma City, Oklahoma | Fat pocketbook (Potamilus capax), northern long-eared bat (Myotis septentrionalis), Indiana bat (Myotis sodalis), gray bat (Myotis grisescens), Ozark big-eared bat (Corynorhinus (=Plecotus) townsendii ingens) | Arkansas | Presence/absence surveys, capture, translocate, handle, tag | Harass, harm, capture | Amend.
PER5200853 | Regan Smith Energy Solutions, Inc.; Oklahoma City, Oklahoma | Lesser prairie-chicken (Tympanuchus pallidicinctus), red-cockaded woodpecker (Picoides borealis) | Alabama, Arkansas, Colorado, Florida, Georgia, Kentucky, Kansas, Louisiana, Mississippi, New Mexico, North Carolina, Oklahoma, South Carolina, Tennessee, Texas, Virginia | Presence/absence surveys, lek surveys | Harass, harm | Renew/Amend.
PER5200854 | Blanton & Associates, Inc.; Austin, Texas | Gulf Coast jaguarundi (Puma yagouaroundi cacomitli), ocelot (Leopardus (=Felis) pardalis), Attwater's greater prairie-chicken (Tympanuchus cupido attwateri), golden-cheeked warbler (Setophaga chrysoparia), lesser prairie-chicken (Tympanuchus pallidicinctus), northern aplomado falcon (Falco femoralis septentrionalis), red-cockaded woodpecker (Picoides borealis), southwestern willow flycatcher (Empidonax traillii extimus), whooping crane (Grus americana), Houston toad (Bufo houstonensis), Barton Springs salamander (Eurycea sosorum), Austin blind salamander (Eurycea waterlooensis), Texas blind salamander (Eurycea rathbuni), Comal Springs riffle beetle (Heterelmis comalensis), Comal Springs dryopid beetle (Stygoparnus comalensis), Peck's Cave amphipod (Stygobromus (=Stygonectes) pecki), diamond tryonia (Pseudotryonia adamantina), Gonzales tryonia (Tryonia circumstriata (=stocktonensis)), phantom tryonia (Tryonia cheatumi), phantom springsnail (Pyrgulopsis texana), Pecos amphipod (Gammarus pecos), Pecos assiminea snail (Assiminea pecos), diminutive amphipod (Gammarus hyalleloides), no common name (Rhadine exilis), no common name (Rhadine infernalis), Helotes mold beetle (Batrisodes venyivi), Cokendolpher Cave harvestman (Texella cokendolpheri), Robber Baron Cave meshweaver (Cicurina baronia), Madla Cave meshweaver (Cicurina madla), Government Canyon Bat Cave meshweaver (Cicurina vespera), Government Canyon Bat Cave spider (Tayshaneta microps), Tooth Cave spider (Tayshaneta myopica), Tooth Cave pseudoscorpion (Tartarocreagris texana), Bee Creek Cave harvestman (Texella reddelli), Kretschmarr Cave mold beetle (Texamaurops reddelli), Tooth Cave ground beetle (Rhadine persephone), Bone Cave harvestman (Texella reyesi), Coffin Cave mold beetle (Batrisodes texanus) | Colorado, Kansas, New Mexico, Oklahoma, Texas | Presence/absence surveys, lek surveys, capture, anesthetize, bio-sample, tag, salvage | Harass, harm, capture | Renew/Amend.
PER5201354 | Aransas National Wildlife Refuge; Austwell, Texas | Whooping crane (Grus americana) | Alabama, California, District of Columbia, Florida, Louisiana, Maryland, Massachusetts, Minnesota, Mississippi, Nebraska, New York, North Carolina, North Dakota, Oklahoma, Tennessee, Texas, Virginia, Wisconsin | Capture, bio-sample, propagation, collect eggs, transport, salvage, educational display, provide health care, reintroduction, rehabilitation, shipment of dead specimens and their parts | Harass, harm, capture | Renew/Amend.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the Endangered Species Act (16 U.S.C. 1531 et seq.).

Jeffrey Fleming,
Acting Regional Director, Southwest Region, U.S. Fish and Wildlife Service.

[FR Doc. 2024-00347 Filed 1-9-24; 8:45 am]

BILLING CODE 4333-15-P